DEPARTMENT OF ENERGY

Federal Energy Regulatory Commission

Combined Notice of Filings

Take notice that the Commission has received the following Natural Gas Pipeline Rate and Refund Report filings:

Filings Instituting Proceedings

Docket Numbers: RP12-371-000.

Applicants: USG Pipeline Company, LLC.

Description: Volume 2 cancellation to be effective 2/6/2012.

Filed Date: 2/6/12.

Accession Number: 20120206-5148.

Comments Due: 5 pm ET 2/21/12.

Docket Numbers: RP12-372-000.

Applicants: Gulf South Pipeline Company, LP.

Description: Create PXS Service to be effective 3/9/2012.

Filed Date: 2/7/12.

Accession Number: 20120207-5068.

Comments Due: 5 pm ET 2/21/12.

Docket Numbers: RP12-373-000.

Applicants: Questar Pipeline Company.

Description: Non-conforming TSA's version 1.0.0 to be effective 3/9/2012.

Filed Date: 2/8/12.

Accession Number: 20120208-5015.

Comments Due: 5 pm ET 2/21/12.

Docket Numbers: RP12-374-000.

Applicants: Kern River Gas Transmission Company.

Description: 2012 Clean-up Filing to be effective 3/9/2012.

Filed Date: 2/8/12

Accession Number: 20120208-5061.

Comments Due: 5 pm ET 2/21/12.

Docket Numbers: RP12-375-000.

Applicants: Natural Gas Pipeline Company of America LLC.

Description: Niska Negotiated Rate to be effective 4/1/2012.

Filed Date: 2/9/12.

Accession Number: 20120209-5019.

Comments Due: 5 pm ET 2/21/12.

Any person desiring to intervene or protest in any of the above proceedings must file in accordance with Rules 211 and 214 of the Commission's Regulations (18 CFR 385.211 and § 385.214) on or before 5 pm Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 9, 2012.
Nathaniel J. Davis, Sr.,
Deputy Secretary

[FR Doc. 2012-3597 Filed 2-15-12; 8:45 am]

BILLING CODE 6717-01-P